DEPARTMENT OF HEALTH AND HUMAN SERVICES

Administration for Children and Families

[CFDA Number: 93.092]

Announcement of the Award of Single-Source Expansion Supplement Grants to Seven Personal Responsibility Education Program Innovative Strategies (PREIS) Grantees

AGENCY: Family and Youth Services Bureau, ACYF, ACF, HHS.

ACTION: Notice of the award of single-source expansion supplement grants to seven Personal Responsibility Education Program Innovative Strategies (PREIS) grantees.

SUMMARY: The Administration for Children and Families (ACF), Administration on Children, Youth and Families (ACYF), Family and Youth Services Bureau (FYSB), Division of Adolescent Development and Support (DADS), announces the award of single-source expansion supplement grants to seven PREIS grantees for the purpose of expanding retention and follow-up efforts for program participants. The funds will allow grantees to collect the increased data necessary to determine the program effectiveness and for the manualization of a validated curriculum and supporting documents.

DATES: The period of support under these supplements is September 30, 2014, through September 29, 2015.

FOR FURTHER INFORMATION CONTACT: LeBretia White, Manager, Adolescent Pregnancy Prevention Program, Division of Adolescent Development and Support, Family and Youth Services Bureau, 1250 Maryland Avenue SW., Suite 800, Washington, DC 20024. Telephone: 202-205-9605; Email: LeBretia.White@acf.hhs.gov.

SUPPLEMENTARY INFORMATION: In FY 2010, FYSB awarded 13 cooperative agreement grants under Funding Opportunity Announcement (FOA) OPHS/OAH/TPP PREP Tier 2-2010. Under this FOA, a total of $9.7 million was made available on a competitive basis to implement and test innovative strategies.

The supplemental funds will help the grantees increase retention and follow-up strategies for program participants. In turn, this will allow grantees to report significant program outcome data that will be integral to the evaluate the effectiveness of the implemented pregnancy prevention models used in grantee programming with populations that include youth in foster care and pregnant and parenting teens.

Seven PREIS grantees have requested supplemental funding awards. Their applications were assessed by a review panel for completeness and responsiveness in the categories of Objectives and Need for Assistance, Approach, and Budget and Budget Justification. The applications were assessed to have scored within a fundable range.

Single-source program expansion supplement awards are made to the following PREIS grantees:

Grantee organization | City | State | Supplement award amount
Child and Family Resources, Inc. | Tucson | AZ | $32,314
Children's Hospital of Los Angeles | Los Angeles | CA | 115,898
Cicatelli Associates Inc. | New York | NY | 130,000
Demoiselle2Femme | Chicago | IL | 55,959
Education Development Center, Inc. | Newton | MA | 55,560
Teen Outreach Pregnancy Services | Tucson | AZ | 29,000
The Village for Families & Children, Inc | Hartford | CT | 33,235

Statutory Authority: Section 2953 of the Patient Protection and Affordable Care Act of 2010, Pub. L. 111-148, added Section 513 to Title V of the Social Security Act, codified at 42 U.S.C. 713, authorizing the Personal Responsibility Education Program.

Mary M. Wayland,
Senior Grants Policy Specialist, Division of Grants Policy, Office of Administration.

[FR Doc. 2015-14839 Filed 6-16-15; 8:45 am]

BILLING CODE 4184-37-P